DEPARTMENT OF THE INTERIOR

National Park Service

Notice of Inventory Completion for Native American Human Remains and Associated Funerary Objects in the Possession of the Phoebe A. Hearst Museum of Anthropology, University of California, Berkeley, Berkeley, CA

AGENCY: National Park Service, Interior.

ACTION: Notice.

Notice is hereby given in accordance with provisions of the Native American Graves Protection and Repatriation Act (NAGPRA), 43 CFR 10.9, of the completion of an inventory of human remains and associated funerary objects in the possession of the Phoebe A. Hearst Museum of Anthropology, University of California, Berkeley, Berkeley, CA

.This notice is published as part of the National Park Service’s administrative responsibilities under NAGPRA, 43 CFR 10.2 (c). The determinations within this notice are the sole responsibility of the museum, institution, or Federal agency that has control of these Native American human remains and associated funerary objects. The National Park Service is not responsible for the determinations within this notice.

An assessment of the human remains, and catalogue records and associated documents relevant to the human remains, was made by Phoebe A. Hearst Museum of Anthropology professional staff in consultation with representatives of the Confederated Tribes of the Grande Ronde Community of Oregon.

At an unknown date before 1901, human remains representing at least one individual were recovered from a grave in an unknown location on the south bank near the mouth of the Chetco River, Chetco, Curry County, OR, by P.E. Goddard. Around 1901, these human remains were donated to the Phoebe A. Hearst Museum of Anthropology by Mrs. P.A. Hearst. No known individual was identified. No associated funerary objects are present.

It is probable that this unknown location is Cidxu, an historic Chetco village, where Mr. Goddard is known to have excavated. The Athabascan inhabitants of Cidxu were removed to the reservation of the Confederated Tribes of the Grande Ronde Community of Oregon , where descendants of this community continue to reside.

Based on the above-mentioned information, officials of the Phoebe A. Hearst Museum of Anthropology have determined that, pursuant to 43 CFR 10.2 (d)(1), the human remains listed above represent the physical remains of one individual of Native American ancestry. Officials of the Phoebe A. Hearst Museum of Anthropology have determined that, pursuant to 43 CFR 10.2 (e), there is a relationship of shared group identity that can be reasonably traced between these Native American human remains and the Confederated Tribes of the Grande Ronde Community of Oregon.

This notice has been sent to officials of the Confederated Tribes of the Grande Ronde Community of Oregon. Representatives of any other Indian tribe that believes itself to be culturally affiliated with these human remains should contact C. Richard Hitchcock, NAGPRA Coordinator, Phoebe A. Hearst Museum of Anthropology, University of California, Berkeley, Berkeley CA 94720, telephone (510) 642-6096, before August 8, 2002. Repatriation of the human remains to the Confederated Tribes of the Grande Ronde Community of Oregon may begin after that date if no additional claimants come forward.

Dated: May 24, 2002.
Robert Stearns,
Manager, National NAGPRA Program.

[FR Doc. 02-17084 Filed 7-8-02; 8:45 am]

BILLING CODE 4310-70-S